DEPARTMENT OF HOMELAND SECURITY

Coast Guard

33 CFR Part 117

[Docket No. USCG-2016-0257]

RIN 1625-AA09

Drawbridge Operation Regulation; Delaware River, Pennsauken Township, NJ

AGENCY: Coast Guard, DHS.

ACTION: Notice of proposed rulemaking; reopening of comment period.

SUMMARY: The Coast Guard is re-opening the comment period for its notice of proposed rulemaking (NPRM), which published on June 30, 2017. The Coast Guard is proposing to change the regulation governing the DELAIR Memorial Railroad Bridge across the Delaware River, mile 104.6, at Pennsauken Township, NJ. Because the bridge owner implemented new polices and training that was not fully evaluated during the previous test deviation, the Coast Guard is providing an additional opportunity for public comment.

DATES: Comments and related material must reach the Coast Guard on or before January 15, 2018.

ADDRESSES: You may submit comments identified by docket number USCG-2016-0257 using Federal eRulemaking Portal at http://www.regulations.gov.

See the “Public Participation and Request for Comments” portion of the SUPPLEMENTARY INFORMATION section below for instructions on submitting comments.

FOR FURTHER INFORMATION CONTACT: If you have questions on this proposed rule, call or email Mr. Hal R. Pitts, Fifth Coast Guard District (dpb); telephone (757) 398-6222, email Hal.R.Pitts@uscg.mil.

SUPPLEMENTARY INFORMATION:

I. Background and Purpose

On June 30, 2017, we published a notice of proposed rulemaking (NPRM) entitled, “Drawbridge Operation Regulation; Delaware River, Pennsauken Township, NJ” in the Federal Register (82 FR 29800). The original comment period closed on August 18, 2017. The NPRM proposed changes to the regulation governing the DELAIR Memorial Railroad Bridge across the Delaware River, mile 104.6, at Pennsauken Township, and contains useful background and analysis related to the proposed changes. The installation of the remote capabilities did not change the operational schedule of the bridge.¹ The public is encouraged to review the NPRM.

¹ A full description of the remote operational system is outlined in the aforementioned publication, which can be found at http://regulations.gov. (see ADDRESSES for more information).

On April 12, 2017, we issued a temporary deviation entitled “Drawbridge Operation Regulation; Delaware River, Pennsauken Township, NJ” in the Federal Register (82 FR 17561). During the initial test deviation performed from 8 a.m. on April 24, 2017, through 7:59 a.m. on October 21, 2017, the bridge owner identified deficiencies in the remote operation center procedures, bridge to vessel communications, and equipment redundancy. Comments concerning these deficiencies were submitted to the docket and provided to the Coast Guard and bridge owner by representatives from the Mariners' Advisory Committee for the Bay and River Delaware.

The bridge owner implemented policies and provided training to address the procedural and communications deficiencies, and implemented backup systems to mitigate potential equipment and systems failures. These changes were not fully evaluated during the test deviation ending October 21, 2017. Therefore, the Coast Guard has decided to issue a second test deviation to complete the evaluation of the changes incorporated into the remote operation system.

On October 18, 2017, we published a second test deviation entitled “Drawbridge Operation Regulation; Delaware River, Pennsauken Township, NJ” in the Federal Register (82 FR 48419). This second test deviation was issued to complete the evaluation of the changes incorporated into the remote operation system during the test deviation ending October 21, 2017. Comments and related material for the second test deviation must reach the Coast Guard on or before January 15, 2018.

Re-Opening the Comment Period

The comment period for the NPRM published on June 30, 2017 ended August 18, 2017. This notice re-opening the comment period ensures there is sufficient opportunity to comment on the proposed rule which would allow the bridge to be remotely operated from the Conrail South Jersey dispatch center in Mount Laurel, NJ, instead of being operated by an on-site bridge tender, before the proposed changes become final.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in this docket and all public comments, will be in our online docket at http://www.regulations.gov and can be viewed by following that Web site's instructions. Additionally, if you go to the online docket and sign up for email alerts, you will be notified when comments are posted or a final rule is published.

Dated: November 17, 2017.
M.L. Austin,
Rear Admiral, U.S. Coast Guard, Commander, Fifth Coast Guard District.

[FR Doc. 2017-26269 Filed 12-5-17; 8:45 am]

BILLING CODE 9110-04-P